DEPARTMENT OF THE TREASURY

Office of Foreign Assets Control

31 CFR Part 548

Publication of Belarus Sanctions Regulations Web General License 2 and Subsequent Iterations

AGENCY: Office of Foreign Assets Control, Treasury.

ACTION: Publication of web general licenses.

SUMMARY: The Department of the Treasury's Office of Foreign Assets Control (OFAC) is publishing nine general licenses (GLs) issued pursuant to the Belarus Sanctions Regulations: GLs 2, 2A, 2B, 2C, 2D, 2E, 2F, 2G, and 2H, each of which was previously made available on OFAC's website.

DATES: GL 2 was issued on October 29, 2015. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On October 29, 2015, OFAC issued GL 2 to authorize certain transactions otherwise prohibited by the Belarus Sanctions Regulations, 31 CFR part 548, and Executive Order 13405 of June 16, 2006, “Blocking Property of Certain Persons Undermining Democratic Processes or Institutions in Belarus” (71 FR 35485, June 20, 2006). Subsequently, OFAC issued eight further iterations of GL 2: on April 28, 2016, OFAC issued GL 2A, which superseded GL 2; on October 18, 2016, OFAC issued GL 2B, which superseded GL 2A; on April 28, 2017, OFAC issued GL 2C, which superseded GL 2B; on October 24, 2017, OFAC issued GL 2D, which superseded GL 2C; on April 27, 2018, OFAC issued GL 2E, which superseded GL 2D; on October 24, 2018, OFAC issued GL 2F, which superseded GL 2E; on October 22, 2019, OFAC issued GL 2G, which superseded GL 2F; and on April 19, 2021, OFAC issued GL 2H, which superseded GL 2G. Each GL was made available on OFAC's website (www.treas.gov/ofac) when it was issued. The text of these GLs is provided below.

OFFICE OF FOREIGN ASSETS CONTROL

Belarus Sanctions Regulations

31 CFR Part 548

Executive Order 13405 of June 16, 2006

Blocking Property of Certain Persons Undermining Democratic Processes or Institutions in Belarus

GENERAL LICENSE NO. 2

General License With Respect to Entities Blocked Pursuant to Executive Order 13405

(a) Effective October 30, 2015, except as provided in paragraphs (b) through (e) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(b) Unless otherwise authorized by the Office of Foreign Assets Control, all property and interests in property of the entities described in paragraph (a) that were blocked pursuant to E.O. 13405 prior to October 30, 2015 remain blocked and may not be transferred, paid, exported, withdrawn, or otherwise dealt in.

(c) This general license does not authorize transactions, directly or indirectly, with any other person whose property and interests in property are blocked pursuant to 31 CFR 548.201(a) or Executive Order 13405, even if those transactions are conducted through any of the entities described in paragraph (a), above.

(d) U.S. persons engaging in transactions involving, directly or indirectly, any of the entities described in paragraph (a) as authorized by this general license are required, no later than 15 days after the execution of any such transaction in excess of $10,000, or any series of such transactions exceeding $10,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

(e) This authorization expires on April 30, 2016, unless extended or revoked.

Andrea M. Gacki,

Acting Director, Office of Foreign Assets Control.

Dated: October 29, 2015.

OFFICE OF FOREIGN ASSETS CONTROL

Belarus Sanctions Regulations

31 CFR Part 548

Executive Order 13405 of June 16, 2006

Blocking Property of Certain Persons Undermining Democratic Processes or Institutions in Belarus

GENERAL LICENSE NO. 2A

General License With Respect to Entities Blocked Pursuant to Executive Order 13405

(a) General License No. 2, dated October 29, 2015, is replaced and superseded in its entirety by this General License No. 2A.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

This authorization expires on October 31, 2016, unless extended or revoked.

Andrea M. Gacki,

Acting Director, Office of Foreign Assets Control.

Dated: April 28, 2016.

OFFICE OF FOREIGN ASSETS CONTROL

Belarus Sanctions Regulations

31 CFR Part 548

Executive Order 13405 of June 16, 2006

Blocking Property of Certain Persons Undermining Democratic Processes or Institutions in Belarus

GENERAL LICENSE NO. 2B

General License With Respect to Entities Blocked Pursuant to Executive Order 13405

(a) General License No. 2A, dated April 28, 2016, is replaced and superseded in its entirety by this General License No. 2B.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires on April 17, 2017, unless extended or revoked.

John E. Smith,

Acting Director, Office of Foreign Assets Control.

Dated: October 18, 2016.

OFFICE OF FOREIGN ASSETS CONTROL

Belarus Sanctions Regulations

31 CFR Part 548

Executive Order 13405 of June 16, 2006

Blocking Property of Certain Persons Undermining Democratic Processes or Institutions in Belarus

GENERAL LICENSE NO. 2C

General License With Respect to Entities Blocked Pursuant to Executive Order 13405

(a) General License No. 2B, dated October 18, 2016, is replaced and superseded in its entirety by this General License No. 2C.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires on October 30, 2017, unless extended or revoked.

Andrea Gacki,

Acting Director, Office of Foreign Assets Control.

Dated: April 28, 2017.

OFFICE OF FOREIGN ASSETS CONTROL

Belarus Sanctions Regulations

31 CFR Part 548

Executive Order 13405 of June 16, 2006

Blocking Property of Certain Persons Undermining Democratic Processes or Institutions in Belarus

GENERAL LICENSE NO. 2D

General License With Respect to Entities Blocked Pursuant to Executive Order 13405

(a) General License No. 2C, dated April 28, 2017, is replaced and superseded in its entirety by this General License No. 2D.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires on April 30, 2018, unless extended or revoked.

John E. Smith,

Director, Office of Foreign Assets Control.

Dated: October 24, 2017.

OFFICE OF FOREIGN ASSETS CONTROL

Belarus Sanctions Regulations

31 CFR Part 548

Executive Order 13405 of June 16, 2006

Blocking Property of Certain Persons Undermining Democratic Processes or Institutions in Belarus

GENERAL LICENSE NO. 2E

General License With Respect to Entities Blocked Pursuant to Executive Order 13405

(a) General License No. 2D, dated October 24, 2017, is replaced and superseded in its entirety by this General License No. 2E.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires on October 30, 2018, unless extended or revoked.

John E. Smith,

Director, Office of Foreign Assets Control.

Dated: April 27, 2018.

OFFICE OF FOREIGN ASSETS CONTROL

Belarus Sanctions Regulations

31 CFR Part 548

Executive Order 13405 of June 16, 2006

Blocking Property of Certain Persons Undermining Democratic Processes or Institutions in Belarus

GENERAL LICENSE NO. 2F

General License With Respect to Entities Blocked Pursuant to Executive Order 13405

(a) General License No. 2E, dated April 27, 2018, is replaced and superseded in its entirety by this General License No. 2F.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires on October 25, 2019, unless extended or revoked.

Andrea Gacki,

Director, Office of Foreign Assets Control.

Dated: October 24, 2018.

OFFICE OF FOREIGN ASSETS CONTROL

Belarus Sanctions Regulations

31 CFR Part 548

Executive Order 13405 of June 16, 2006

Blocking Property of Certain Persons Undermining Democratic Processes or Institutions in Belarus

GENERAL LICENSE NO. 2G

General License With Respect to Entities Blocked Pursuant to Executive Order 13405

(a) General License No. 2F, dated October 24, 2018, is replaced and superseded in its entirety by this General License No. 2G.

(b) Effective October 30, 2015, except as provided in paragraphs (c) through (f) below, all transactions otherwise prohibited by Executive Order 13405 involving the following named entities, or any entities that are owned, individually or in the aggregate, directly or indirectly, 50 percent or more by one or more of the following named entities, are authorized:

• Belarusian Oil Trade House

• Belneftekhim

• Belneftekhim USA, Inc.

• Belshina OAO

• Grodno Azot OAO

• Grodno Khimvolokno OAO

• Lakokraska OAO

• Naftan OAO

• Polotsk Steklovolokno OAO

(c) Unless otherwise authorized by the Office of Foreign Assets Control, all property and interests in property of the entities described in paragraph (b) that were blocked pursuant to E.O. 13405 prior to October 30, 2015 remain blocked and may not be transferred, paid, exported, withdrawn, or otherwise dealt in.

(d) This general license does not authorize transactions, directly or indirectly, with any other person whose property and interests in property are blocked pursuant to 31 CFR 548.201(a) or Executive Order 13405, even if those transactions are conducted through any of the entities described in paragraph (b), above.

(e) U.S. persons engaging in transactions involving, directly or indirectly, any of the entities described in paragraph (b) as authorized by this general license are required, no later than 30 days after the execution of any such transaction in excess of $50,000, or any series of such transactions exceeding $50,000, to file a report with the U.S. Department of State, Office of Eastern European Affairs, 2201 C Street NW, Washington, DC 20520. Such reports shall include the following numbered sections and information:

(1) Estimated or actual dollar value of the transaction(s), as determined by the value of the goods, services, or contract;

(2) The parties involved;

(3) The type and scope of activities conducted; and

(4) The dates or duration of the activities.

Reports may also be filed via email to BelarusGL@state.gov.

Note to paragraph (e): U.S. financial institutions are not required to file a report if there are other U.S. persons involved in the reportable transaction that are not financial institutions.

(f) This authorization expires at 12:01 a.m. eastern daylight time on April 26, 2021 unless extended or revoked.

Andrea Gacki,

Director, Office of Foreign Assets Control.

Dated: October 22, 2019.

OFFICE OF FOREIGN ASSETS CONTROL

Belarus Sanctions Regulations

31 CFR Part 548

GENERAL LICENSE NO. 2H

Authorizing the Wind Down of Transactions Involving Certain Blocked Entities

(a) Except as provided in paragraph (b) of this general license, all transactions and activities prohibited by the Belarus Sanctions Regulations, 31 CFR part 548 (the BSR), that are ordinarily incident and necessary to the wind down of transactions involving the following named entities or any entities in which the following named entities own, individually or in the aggregate, directly or indirectly, a 50 percent or greater interest, are authorized through 12:01 a.m. eastern daylight time, June 3, 2021:

• Belarusian Oil Trade House

• Belneftekhim

• Belneftekhim USA, Inc.

• Belshina OAO

• Grodno Azot OAO

• Grodno Khimvolokno OAO

• Lakokraska OAO

• Naftan OAO

• Polotsk Steklovolokno OAO

(b) This general license does not authorize:

(1) The unblocking of any property blocked pursuant to any part of 31 CFR chapter V, including all property and interests in property of the blocked persons identified in paragraph (a) of this general license that were blocked prior to October 30, 2015; or

(2) Any transactions or activities otherwise prohibited by the BSR, or prohibited by any other part of 31 CFR chapter V, statute, or Executive order, or involving any blocked persons other than the blocked persons identified in paragraph (a) of this general license.

(c) U.S. persons participating in a transaction, or series of transactions, authorized by this general license, in excess of $50,000 are required, no later than 30 days after the execution of any such transaction(s), to file a report with the U.S. Department of State, Office of Eastern European Affairs, 2201 C Street NW, Washington, DC 20520. Reports may also be filed via email to BelarusGL@state.gov. Such reports shall include the following numbered sections and information:

(1) Estimated or actual dollar value of the transaction(s), as determined by the value of the goods, services, or contract;

(2) The parties involved;

(3) The type and scope of activities conducted; and

(4) The dates or duration of the activities.

Note to paragraph (c): U.S. financial institutions are not required to file a report if there are other U.S. persons involved in the reportable transaction that are not financial institutions.

(d) Effective April 19, 2021, General License No. 2G, dated October 22, 2019, is replaced and superseded in its entirety by this General License No. 2H.

Bradley T. Smith,

Acting Director, Office of Foreign Assets Control.

Dated: April 19, 2021.

Andrea M. Gacki,
Director, Office of Foreign Assets Control.

[FR Doc. 2023-11866 Filed 6-5-23; 8:45 am]

BILLING CODE P